DEPARTMENT OF AGRICULTURE

Natural Resources Conservation Service

Field Office Technical Guide of NRCS in South Dakota; Availability of Proposed Changes

AGENCY: USDA Natural Resources Conservation Service.

ACTION: Notice of Availability of proposed changes to conservation practice standards in Section IV of the Field Office Technical Guide (FOTG) of NRCS in South Dakota for review and comment.

SUMMARY: It is the intention of NRCS in South Dakota to issue revised conservation practice standards in Section IV of the FOTG for the following practice Irrigation Pit or Regulating Reservoir, Irrigation Pit (552A).

DATES: Comments on this notice must be received on or before January 17, 2001.

ADDRESSES: All comments concerning the proposed conservation practice standard changes should be addressed to: Dean Fisher, State Conservationist, NRCS, 200 Fourth Street SW, Huron, South Dakota 57350. Copies of these standards will be made available upon written request.

Dated: December 6, 2000.
Shelli Moore,
Assistant State Conservationist for Operations, Natural Resources Conservation Service, Huron, South Dakota 57350.

[FR Doc. 00-32175 Filed 12-15-00; 8:45 am]

BILLING CODE 3410-16-M